OFFICE OF THE UNITED STATES TRADE REPRESENTATIVE

Fiscal Year 2009 Tariff-Rate Quota Allocations for Raw Cane Sugar, Refined and Specialty Sugar, and Sugar-Containing Products

AGENCY: Office of the United States Trade Representative.

ACTION: Notice.

SUMMARY: The Office of the United States Trade Representative (USTR) is providing notice of country-by-country allocations of the FY 2009 in-quota quantity of the tariff-rate quota for imported raw cane sugar, refined and specialty sugar, and sugar-containing products.

EFFECTIVE DATE: September 22, 2008.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, telephone: 202-395-6127 or facsimile: 202-395-4579.

SUPPLEMENTARY INFORMATION: Pursuant to Additional U.S. Note 5 to chapter 17 of the Harmonized Tariff Schedule of the United States (HTS), the United States maintains a tariff-rate quota for imports of raw cane sugar and refined sugar. Pursuant to Additional U.S. Note 8 to chapter 17 of the HTS, the United States maintains a tariff-rate quota for imports of sugar-containing products.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

On September 9, 2008, the Secretary of Agriculture announced the sugar program provisions for fiscal year (FY) 2009 (Oct. 1, 2008, through Sept. 30, 2009). The Secretary of Agriculture announced an in-quota quantity of the tariff-rate quota for raw cane sugar for FY 2009 of 1,117,195 metric tons* raw value, which is the minimum amount to which the United States is committed under the World Trade Organization (WTO) Uruguay Round Agreements. USTR is allocating this quantity (1,117,195 metric tons* raw value) to the following countries:

Country | FY 2009 Raw Cane Sugar Allocations (metric tons raw value)
Argentina | 45,281
Australia | 87,402
Barbados | 7,371
Belize | 11,583
Bolivia | 8,424
Brazil | 152,691
Colombia | 25,273
Congo | 7,258
Costa Rica | 15,796
Cote d'Ivoire | 7,258
Dominican Republic | 185,335
Ecuador | 11,583
El Salvador | 27,379
Fiji | 9,477
Gabon | 7,258
Guatemala | 50,546
Guyana | 12,636
Haiti | 7,258
Honduras | 10,530
India | 8,424
Jamaica | 11,583
Madagascar | 7,258
Malawi | 10,530
Mauritius | 12,636
Mexico | 7,258
Mozambique | 13,690
Nicaragua | 22,114
Panama | 30,538
Papua New Guinea | 7,258
Paraguay | 7,258
Peru | 43,175
Philippines | 142,160
South Africa | 24,220
St. Kitts & Nevis | 7,258
Swaziland | 16,849
Taiwan | 12,636
Thailand | 14,743
Trinidad & Tobago | 7,371
Uruguay | 7,258
Zimbabwe | 12,636

These allocations are based on the countries' historical shipments to the United States. The allocations of the raw cane sugar tariff-rate quota to countries that are net importers of sugar are conditioned on receipt of the appropriate verifications of origin, and certificates for quota eligibility must accompany imports from any country for which an allocation has been provided.

On September 9, 2008, the Secretary of Agriculture established the FY 2009 refined sugar tariff-rate quota at 94,575 metric tons raw value for which the sucrose content, by weight in the dry state, must have a polarimeter reading of 99.5 degrees or more. This amount includes the minimum level to which the United States is committed under the WTO Uruguay Round Agreement (22,000 metric tons raw value of which 1,656 metric tons raw value is specialty sugar) and an additional 72,575 metric tons raw value for specialty sugars. USTR is allocating a total of 10,300 metric tons raw value of refined sugar to Canada, 2,954 metric tons raw value of refined sugar to Mexico, and 7,090 metric tons raw value of refined sugar to be administered on a first-come, first-served basis. The 74,231 metric tons raw value specialty sugar TRQ, which includes the additional 72,575 metric tons raw value of specialty sugar and the specialty sugar allocation of 1,656 metric tons raw value included in the 22,000 metric tons raw value WTO minimum, will be administered on a first-come, first-served basis in five tranches. The first tranche of 1,656 metric tons raw value will open October 23, 2008. All types of specialty sugars are eligible for entry under this tranche. The second tranche of 25,682 metric tons raw value will open on November 10, 2008. The third, fourth, and fifth tranches of 15,631 metric tons raw value each will open on January 14, 2009; May 19, 2009 and August 24, 2009 respectively. The second, third, fourth and fifth tranches will be reserved for organic sugar and other specialty sugars not currently produced commercially in the United States or reasonably available from domestic sources.

With respect to the tariff-rate quota of 64,709 metric tons for certain sugar-containing products maintained under Additional U.S. Note 8 to Chapter 17 to the Harmonized Tariff Schedule of the United States, USTR is allocating 59,250 metric tons to Canada. The remainder of the sugar-containing products tariff-rate quota is available for other countries on a first-come, first-served basis.

*Conversion factor: 1 metric ton = 1.10231125 short tons.

Susan C. Schwab,
United States Trade Representative.

[FR Doc. E8-22095 Filed 9-19-08; 8:45 am]

BILLING CODE 3190-W8-P